NATIONAL AERONAUTICS AND SPACE ADMINISTRATION

[18-041]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: All comments should be submitted within June 7, 2018.

ADDRESSES: All comments should be addressed to Lori Parker, National Aeronautics and Space Administration, 300 E Street SW, Washington, DC 20546-0001.

FOR FURTHER INFORMATION CONTACT: Requests for additional information or copies of the information collection instrument(s) and instructions should be directed to Lori Parker, NASA Clearance Officer, NASA Headquarters, 300 E Street SW, JF0000, Washington, DC 20546, (202) 358-1351.

SUPPLEMENTARY INFORMATION:

I. Abstract

Supersonic flight over land is currently restricted in the U.S. and many countries because sonic boom noise disturbs people on the ground and can potentially damage private property. NASA is researching the public acceptability of quiet commercial supersonic flight. As sufficient research is assembled, there is potential for a change in federal and international regulations.

The 2018 Quiet Supersonic Flight Community Response Test will correlate human annoyance response with low level supersonic exposure in a community setting. The supersonic exposure will be generated with an F-18 research aircraft performing a specialized maneuver. This effort is designed to evaluate remote aircraft basing and operations, community engagement, sonic boom measurements, and community annoyance surveys. The effort will improve research methods for future community-scale response testing using a purpose-built, low boom flight demonstration aircraft (LBFD).

NASA supported a prior risk reduction field test to evaluate data collection methods for low boom community response at Edwards Air Force Base (EAFB) in November 2011. The annoyance response findings from the study are not readily generalizable to a larger population, as the residents at EAFB are accustomed to hearing full level sonic booms on a routine basis.

II. Methods of Collection

Web-Based/Electronic.

III. Data

Title: 2018 Quiet Supersonic Flight Community Response Test.

OMB Number: 2700-xxxx.

Type of review: New Clearance.

Affected Public: Individuals and Households, Businesses and Organizations, State, Local, or Tribal Government.

Average Expected Annual Number of activities: Four questionnaires administered with varying frequency over 10 days.

Average number of Respondents per Activity: 500 respondents (maximum).

Annual Responses: 112 responses (maximum) per respondent.

Frequency of Responses: 10 responses (maximum) per day.

Average minutes Per Response: Typical response time is 2 minutes

Burden Hours: Not to exceed 2,000 hours.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA PRA Clearance Officer.

[FR Doc. 2018-09676 Filed 5-7-18; 8:45 am]

BILLING CODE 7510-13-P